NUCLEAR REGULATORY COMMISSION

[Docket No. 50-346; NRC-2019-0065]

FirstEnergy Nuclear Operating Company; Davis-Besse Nuclear Power Station, Unit No. 1

AGENCY: Nuclear Regulatory Commission.

ACTION: License amendment application; withdrawal by applicant.

SUMMARY: The U.S. Nuclear Regulatory Commission (NRC) has granted the request of FirstEnergy Solutions Corp. (FES) to withdraw the FirstEnergy Nuclear Operating Company (FENOC, the licensee) application dated February 5, 2019, for a proposed amendment to Renewed Facility Operating License No. NPF-3. The proposed amendment would have revised the Davis-Besse Nuclear Power Station (DBNPS), Unit No. 1, emergency plan following the permanent cessation of power operations to reflect the post-shutdown and permanently defueled condition.

DATES: The withdrawal of the proposed amendment takes effect on August 9, 2019.

ADDRESSES: Please refer to Docket ID NRC-2019-0065 when contacting the NRC about the availability of information regarding this document. You may obtain publicly-available information related to this document using any of the following methods:

• Federal Rulemaking Website: Go to https://www.regulations.gov/ and search for Docket ID NRC-2019-0065. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Blake A. Purnell, Office of Nuclear Reactor Regulation, U.S. Nuclear Regulatory Commission, Washington DC 20555-0001; telephone: 301-415-1380, email: Blake.Purnell@nrc.gov.

SUPPLEMENTARY INFORMATION: The NRC has granted the request of FES to withdraw the FENOC application dated February 5, 2019 (ADAMS Accession No. ML19036A524), as supplemented by letters dated April 10 and July 8, 2019 (ADAMS Accession Nos. ML19100A000 and ML19189A109, respectively), for a proposed amendment to Renewed Facility Operating License No. NPF-3 for the DBNPS located in Ottawa County, Ohio. FES is the parent company of FirstEnergy Nuclear Generation, LLC, which owns DBNPS. The proposed amendment would have revised the DBNPS emergency plan following the permanent cessation of power operations to reflect the post-shutdown and permanently defueled condition. The proposed changes included revision of the emergency response organization staffing and editorial changes.

The Commission previously issued a proposed finding that the amendment involves no significant hazards consideration published in the Federal Register on March 12, 2019 (84 FR 8910). However, by letter dated July 26, 2019 (ADAMS Accession No. ML19207A097), FES requested to withdraw the proposed amendment.

Dated at Rockville, Maryland, this 6th day of August, 2019.
For the Nuclear Regulatory Commission.
Blake A. Purnell,
Project Manager, Plant Licensing Branch III, Division of Operating Reactor Licensing, Office of Nuclear Reactor Regulation.

[FR Doc. 2019-17069 Filed 8-8-19; 8:45 am]

BILLING CODE 7590-01-P